DEPARTMENT OF VETERANS AFFAIRS

Advisory Committee on OIF/OEF Veterans and Families; Notice of Meeting

The Department of Veterans Affairs (VA) gives notice under Public Law 92-463 (Federal Advisory Committee Act) that the Advisory Committee on OIF/OEF Veterans and Families will conduct a meeting and a site visit in the Palo Alto, California area on September 16-18, 2008. Committee activities will include tours and briefings at various VA facilities.

The purpose of the Committee is to advise the Secretary of Veterans Affairs on the full spectrum of health care, benefits delivery and related family support issues that confront service members during their transition from active duty to veteran status and during their post-service years. The Committee will focus on the concerns of all men and women with active military service in Operation Iraqi Freedom and/or Operation Enduring Freedom, but will pay particular attention to severely disabled veterans and their families.

The agenda for the September 16-18 meeting will include briefings on recent site visits, discussions on proposed recommendations to the Department of Veterans Affairs (VA), and tours of the VA Medical Center. The Committee will discuss its findings and observations based on previous Committee meetings, site visits, written reports, and personal experiences.

On Tuesday, September 16, from 9 a.m. until 12 noon, the Committee will meet at The Cabana Hotel Palo Alto, 4290 El Camino Real, Palo Alto, CA. In the afternoon, the Committee will meet at the Palo Alto VA Medical Center, tour the facility and receive briefings from staff.

On Wednesday, September 17, from 9 a.m. to 12 noon, the Committee will meet in closed session. The Committee will be meeting with clinicians and individual patients receiving services at VA's Menlo Park facility. The session will be closed to protect the privacy of the patients and to minimize possible interference with the delivery of medical services. Closing the meeting is in compliance with 5 U.S.C. Sec 552b(c)(6). In the afternoon, from 2 p.m.-5 p.m., the Committee will meet in open session at The Cabana Hotel Palo Alto, 4290 El Camino Real, Palo Alto, CA.

On Thursday, September 18, from 9 a.m. to 4 p.m., the Committee will meet in open session at The Cabana Hotel Palo Alto, 4290 El Camino Real, Palo Alto, CA.

The meeting will include time reserved for public comments. Individuals wishing to make oral statements must pre-register not later than September 10, 2008 by contacting Syreeta Cherry via e-mail at Syreeta.Cherry@va.gov, and by submitting 1-2 page summaries of their statements for inclusion in the official record of the meeting. Oral statements by the public will be limited to five minutes each and will be received at 3 p.m.-3:30 p.m. on September 17, and 1 p.m.-1:30 p.m. on September 18. Interested individuals may also submit written statements for the Committee's review to the Advisory Committee on OIF/OEF Veterans and Families (008), Department of Veterans Affairs, 810 Vermont Avenue, NW., Washington, DC 20420.

Any member of the public seeking additional information should contact Laura O'Shea, Designated Federal Officer, at (202) 461-5765.

Dated: August 15, 2008.
By direction of the Secretary:
E. Philip Riggin,
Committee Management Officer.

[FR Doc. E8-19300 Filed 8-20-08; 8:45 am]

BILLING CODE 8320-01-P